SMALL BUSINESS ADMINISTRATION

[Declaration of Disaster #3408]

State of West Virginia, Amendment #1; Disaster Loan Areas

In accordance with notices received from the Federal Emergency Management Agency, dated May 20 and June 6, 2002, the above-numbered Declaration is hereby amended to include Kanawha and Raleigh Counties in the State of West Virginia as a disaster area due to damages caused by severe storms, flooding and landslides, and to establish the incident period for this disaster as beginning on May 2, 2002 and continuing through May 20, 2002.

In addition, applications for economic injury loans from small businesses located in the following contiguous counties may be filed until the specified date at the previously designated location: Clay, Fayette, Jackson, Nicholas, Putnam, and Roane Counties in West Virginia. All other counties contiguous to the above-names primary counties have been previously declared.

All other information remains the same, i.e., the deadline for filing applications for physical damage is July 4, 2002, and for economic injury the deadline is February 5, 2003.

(Catalog of Federal Domestic Assistance Program Nos. 59002 and 59008)

Dated: June 6, 2002.
Herbert L. Mitchell,
Associate Administrator for Disaster Assistance.

[FR Doc. 02-14744 Filed 6-11-02; 8:45 am]

BILLING CODE 8025-01-P